DEPARTMENT OF THE INTERIOR

Fish and Wildlife Service

Aquatic Nuisance Species Task Force Mid-Atlantic Panel on Aquatic Nuisance Species Meeting

AGENCY: Fish and Wildlife Service, Interior.

ACTION: Notice of meeting.

SUMMARY: This notice announces a meeting of the Aquatic Nuisance Species (ANS) Task Force Mid-Atlantic Panel on Aquatic Nuisance Species. The meeting topics are identified in the SUPPLEMENTARY INFORMATION section. The meeting is open to the public.

DATES: The Mid-Atlantic Panel on Aquatic Nuisance Species will meet from 10 a.m. to 4:45 p.m. on Thursday, March 31, 2005 and from 10 a.m. to 3 p.m. on Friday, April 1, 2005. Minutes of the meeting will be available for public inspection during regular business hours, Monday through Friday.

ADDRESSES: The Mid-Atlantic Panel on Aquatic Nuisance Species meeting will be held at the U.S. Fish and Wildlife Service Chesapeake Bay Field Office, 177 Admiral Cochrane Drive, Annapolis, MD 21401. Phone (410) 573-4517. Minutes of the meeting will be maintained in the office of Chief, Division of Environmental Quality, U.S. Fish and Wildlife Service, Suite 322, 4401 North Fairfax Drive, Arlington, Virginia 22203-1622.

FOR FURTHER INFORMATION CONTACT: Jennifer Greiner, Mid-Atlantic Panel on Aquatic Nuisance Species Interim Chair at (410) 267-5783 or Pam Meacham, Aquatic Nuisance Species Task Force, at (703) 358-1796.

SUPPLEMENTARY INFORMATION: Pursuant to section 10(a)(2) of the Federal Advisory Committee Act (5 U.S.C. App. I), this notice announces meetings of the Aquatic Nuisance Species Task Force Mid-Atlantic Panel on Aquatic Nuisance Species. The Task Force was established by the Nonindigenous Aquatic Nuisance Prevention and Control Act of 1990. The Mid-Atlantic Panel on Aquatic Nuisance Species was established by the ANS Task Force in 2003. The Mid-Atlantic Panel on Aquatic Nuisance Species, comprised of representatives from Federal, State, local agencies and from private environmental and commercial interests, performs the following activities:

a. Identifies priorities for activities in the Mid-Atlantic region,

b. Develops and submits recommendations to the national Aquatic Nuisance Species Task Force,

c. Coordinates aquatic nuisance species program activities in the Mid-Atlantic region,

d. Advises public and private interests on control efforts, and

e. Submits an annual report to the Aquatic Nuisance Species Task Force.

The purpose of the Panel is to advise and make recommendations to the Aquatic Nuisance Species (ANS) Task Force on issues relating to the Mid-Atlantic region of the United States that includes nine Mid-Atlantic States: Delaware, District of Columbia, Maryland, North Carolina, New Jersey, New York, Pennsylvania, Virginia, and West Virginia. The Mid-Atlantic Panel on Aquatic Nuisance Species will discuss several topics at this meeting including: An overview of the ANS Task Force and Regional Panels; ANS Task Force Outreach and Education programs; priority ANS species in North Carolina and the Chesapeake and Delaware Bay watersheds; regional projects; organization, operations and budget of the Mid-Atlantic Regional Panel; work plan development; and the formation of work groups.

Dated: March 3, 2005.
Everett Wilson,
Acting Co-Chair, Aquatic Nuisance Species Task Force, Assistant Director—Fisheries & Habitat Conservation.

[FR Doc. 05-4702 Filed 3-9-05; 8:45 am]

BILLING CODE 4310-55-P